INTERNATIONAL TRADE COMMISSION

[Investigations Nos. 731-TA-868-869 (Final)]

Steel Wire Rope From China and India

Determinations

On the basis of the record ¹ developed in the subject investigations, the United States International Trade Commission determines, pursuant to section 735(b) of the Tariff Act of 1930 (19 U.S.C. 1673d(b)) (the Act), that an industry in the United States is not materially injured or threatened with material injury, and the establishment of an industry in the United States is not materially retarded, by reason of imports from China and India of steel wire rope, provided for in subheadings 7312.10.60 and 7312.10.90 of the Harmonized Tariff Schedule of the United States, that have been found by the Department of Commerce to be sold in the United States at less than fair value (LTFV).

¹ The record is defined in sec. 207.2(f) of the Commission's Rules of Practice and Procedure (19 CFR 207.2(f)).

Background

The Commission instituted these investigations effective March 1, 2000, following receipt of a petition filed with the Commission and the Department of Commerce by The Committee of Domestic Steel Wire Rope and Specialty Cable Manufacturers (Committee),² Washington, DC. The final phase of the investigations was scheduled by the Commission following notification of preliminary determinations by the Department of Commerce that imports of steel wire rope from China and India were being sold at LTFV within the meaning of section 733(b) of the Act (19 U.S.C. 1673b(b)). Notice of the scheduling of the Commission's investigations and of a public hearing to be held in connection therewith was given by posting copies of the notice in the Office of the Secretary, U.S. International Trade Commission, Washington, DC, and by publishing the notice in the Federal Register of November 9, 2000 (65 FR 67402). The hearing was held in Washington, DC, on February 21, 2001, and all persons who requested the opportunity were permitted to appear in person or by counsel.

² The Committee comprises the following U.S. producers: Bergen Cable Technology, Inc.; Bridon American Corp.; Carolina Steel & Wire Corp.; Continental Cable Co.; Loos & Co., Inc.; Paulsen Wire Rope Corp.; Sava Industries, Inc.; Strandflex, a division of MSW, Inc.; and Wire Rope Corp. of America, Inc.

The Commission transmitted its determinations in these investigations to the Secretary of Commerce on March 30, 2001. The views of the Commission are contained in USITC Publication 3406 (March 2001), entitled Steel Wire Rope from China and India: Investigations Nos. 731-TA-868-869 (Final).

Issued: April 2, 2001.
By order of the Commission.
Donna R. Koehnke,
Secretary.

[FR Doc. 01-8583 Filed 4-6-01; 8:45 am]

BILLING CODE 7020-02-P